DEPARTMENT OF AGRICULTURE

Agricultural Marketing Service

[Doc. No. AMS-PY-10-0009]

Notice of Request for Extension of a Currently Approved Information Collection

AGENCY: Agricultural Marketing Service, USDA.

ACTION: Notice and request for comments.

SUMMARY: In accordance with the Paperwork Reduction Act of 1995 (44 U.S.C. Chapter 35), this notice announces the intention of Agricultural Marketing Service (AMS) to request an extension from the Office of Management and Budget (OMB), for a currently approved information collection in support of Poultry Market News Programs.

DATES: Comments received by June 4, 2010 will be considered.

ADDRESSES: Interested persons are invited to submit written comments on the Internet at http://www.regulations.gov or to: Sara Lutton, Standards, Promotion, & Technology Branch; Poultry Programs, AMS, U.S. Department of Agriculture; 1400 Independence Avenue, SW., Stop 0259; Washington, DC 20250-0259; fax (202) 720-2930. Comments should reference the docket number and the date and page number of this issue of the Federal Register. Comments will be available for public inspection at the above address during regular business hours, or can be viewed at http://www.regulations.gov. All comments received will be posted without change, including any personal information provided. The identity of anyone submitting comments will also be made public.

Additional Information: Additional information regarding this notice is available by contacting Sara Lutton, Standards, Promotion, & Technology Branch; Poultry Programs, AMS, U.S. Department of Agriculture; 1400 Independence Avenue, SW., Stop 0259; Washington, DC 20250-0259; fax (202) 720-2930.

SUPPLEMENTARY INFORMATION: Title: Poultry Market News Reports.

OMB Number: 0581-0033.

Expiration Date of Approval: November 30, 2010.

Type of Request: Extension of a currently approved information collection.

Abstract: Under the Agricultural Marketing Act of 1946, as amended (7 U.S.C. 1621-1627), the Poultry Market News and Analysis Branch provides up-to-the-minute nationwide coverage of prices, supply, demand, trends, movement, and other pertinent information affecting the trading of poultry and eggs, and their respective products. The market reports compiled and disseminated by Market News provide current, unbiased, factual information to all members of the Nation's agricultural industry, from farm to retailer. These market reports assist producers, processors, wholesalers, retailers, and others in making informed production, purchasing, and sales decisions and promote orderly marketing by placing buyers and sellers on a more equal negotiating basis.

Market news reporters communicate with buyers and sellers of egg and poultry commodities on a daily basis in order to accomplish the Program's mission. This communication and information gathering is accomplished through the use of telephone conversations, facsimile transmissions, and electronic mail messages. Market News uses one OMB approved form, PY-90: Monthly Dried Egg Solids Stocks Report, to collect inventory information from commercial dried egg products plants throughout the U.S. Cooperating firms voluntarily submit this form to Market News primarily via electronic mail and facsimile transmissions.

Estimate of Burden: Public reporting burden for this collection of information is estimated to average 0.083 hours (5 minutes) per response.

Respondents: Producers, processors, brokers, distributors, retailers and commercial dried egg products plants.

Estimated Number of Respondents: 1,743.

Estimated Total Annual Responses: 216,858.

Estimated Number of Responses per Respondent: 137.

Estimated Total Annual Burden on Respondents: 17,999 hours.

Copies of this information collection may be obtained from Sara Lutton, Standards, Promotion, & Technology Branch, at (202) 720-0976.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Interested persons are invited to submit written comments on the Internet at http://www.regulations.gov or to: Sara Lutton, Standards, Promotion, & Technology Branch; Poultry Programs, AMS, U.S. Department of Agriculture; 1400 Independence Avenue, SW., Stop 0259; Washington, DC 20250-0259; fax (202) 720-2930. All comments received will be available for public inspection during regular business hours at the above address, or can be viewed at http://www.regulations.gov.

All responses to this notice will be summarized and included in the request for OMB approval. All comments will become a matter of public record.

Dated: March 30, 2010.
Rayne Pegg,
Administrator, Agricultural Marketing Service.

[FR Doc. 2010-7572 Filed 4-2-10; 8:45 am]

BILLING CODE P